DEPARTMENT OF COMMERCE

National Oceanic and Atmospheric Administration

50 CFR Part 648

[Docket No. 151211999-6343-02]

RIN 0648-XG900

Fisheries of the Northeastern United States; Northeast Multispecies Fishery; Common Pool Measures for Fishing Year 2019; Correction

AGENCY: National Marine Fisheries Service (NMFS), National Oceanic and Atmospheric Administration (NOAA), Commerce.

ACTION: Temporary rule; possession and trip limit implementation; correction.

SUMMARY: NMFS is correcting a temporary rule that implemented measures for Northeast multispecies common pool vessels for the 2019 fishing year. These measures included possession and trip limits and the allocation of zero trips into the Closed Area II Yellowtail Flounder/Haddock Special Access Program for common pool vessels to target yellowtail flounder. The trip limit for Gulf of Maine winter flounder was incorrect.

DATES: Effective May 10, 2019, through April 30, 2020.

FOR FURTHER INFORMATION CONTACT: Spencer Talmage, Fishery Management Specialist, 978-281-9232.

SUPPLEMENTARY INFORMATION:

Need for Correction

NMFS published measures for the Northeast multispecies common pool fishery for fishing year 2019 on April 26, 2019 (84 FR 17926). These measures included possession and trip limits for all stocks of regulated multispecies.

The document incorrectly listed the trip limit for Gulf of Maine (GOM) winter flounder as 2,000 lb (907 kg) per trip, instead of the correct trip limit of 1,000 lb (454 kg) per trip. This correction will not adversely affect fishing operations. The corrected trip limit of 1,000 lb (454 kg) is the same as the 1,000 lb (454 kg) trip limit for the stock in the previous year. The 1,000 lb (454 kg) limit is based on past experience and anticipated fishing effort. There was no discussion of any increase because there was intended to be no change in the limit from the previous fishing year to prevent an overage from occurring in Trimester 1. This correction is necessary to prevent early trimester closures and overages of common pool quotas while facilitating optimized harvest.

Correction

In the Federal Register of April 26, 2019, in FR Doc. 2019-08441, on page 17927, table 1, is corrected to read as follows:

Table 1—2019 Fishing Year Common Pool Possession and Trip Limits
Stock | 2019 Trip limit
GB Cod (outside Eastern U.S./Canada Area) GB Cod (inside Eastern U.S./Canada Area) | 250 lb (113 kg) per DAS, up to 500 lb (227 kg) per trip.
GB Cod [Closed Area II Yellowtail Flounder/Haddock SAP (for targeting haddock)] | 500 lb (227 kg) per trip.
GOM Cod | 50 lb (23 kg) per DAS, up to 100 lb (45 kg) per trip.
GB Haddock | 100,000 lb (45, 359 kg) per trip.
GOM Haddock | 500 lb (227 kg) per DAS, up to 1,000 lb (454 kg) per trip.
GB Yellowtail Flounder | 100 lb (45 kg) per trip.
SNE/MA Yellowtail Flounder | 100 lb (45 kg) per DAS, up to 200 lb (91 kg) per trip.
Cape Cod (CC)/GOM Yellowtail Flounder | 750 lb (340 kg) per DAS, up to 1,500 lb (680 kg) per trip.
American Plaice | 750 lb (340 kg) per DAS, up to 1,500 lb (680 kg) per trip.
Witch Flounder | 600 lb (272 kg) per trip.
GB Winter Flounder | 250 lb (113 kg) per trip.
GOM Winter Flounder | 1,000 lb (454 kg) per trip.
SNE/MA Winter Flounder | 2,000 lb (907 kg) per DAS, up to 4,000 lb (1814 kg) per trip.
Redfish | Unlimited.
White Hake | 1,500 lb (680 kg) per trip.
Pollock | Unlimited.
Atlantic Halibut | 1 fish per trip.
Windowpane Flounder Ocean Pout Atlantic Wolffish | Possession Prohibited.

Classification

The Assistant Administrator for Fisheries, NOAA, finds good cause pursuant to 5 U.S.C. 553(b)(B) and 5 U.S.C. 553(d)(3) to waive prior notice and the opportunity for public comment and the 30-day delayed effectiveness period because it would be contrary to the public interest. This action corrects an error that inadvertently identified the trip limit of GOM winter flounder for the Northeast multispecies common pool fishery at 2,000 lb (907 kg) per trip rather than the correct 1,000 lb (454 kg) per trip.

Delay of this action would leave the common pool fishery with a trip limit for GOM winter flounder that is too high to control catch and may lead to early closure of a trimester and quota overages. Any overage of the quota for either of the first two trimesters must be deducted from the Trimester 3 quota, which could substantially disrupt the trimester structure and intent to distribute fishing effort across the entire fishing year. An overage reduction in Trimester 3 would further reduce fishing opportunities for common pool vessels and likely result in early closure of Trimester 3. Additionally, any overage of the annual quota would be deducted from common pool's quota for the next fishing year, to the detriment of the fishery.

For the reasons above, delay of this action for prior notice and the opportunity for public comment and the 30-day delayed effectiveness period would undermine management objectives of the FMP and cause unnecessary negative economic impacts to the common pool fishery.

Authority: 16 U.S.C. 1801 et seq.

Dated: May 8, 2019.
Alan D. Risenhoover,
Director, Office of Sustainable Fisheries, National Marine Fisheries Service.

[FR Doc. 2019-09826 Filed 5-10-19; 8:45 am]

BILLING CODE 3510-22-P